SECURITIES AND EXCHANGE COMMISSION

[File No. 500-1]

In the Matter of Talisman Enterprises, Inc., Tangent Solutions, Inc., Telepanel Systems, Inc., Telesis North Communications, Inc., Telzuit Medical Technologies, Inc., Tengtu International Corp., Thomaston Mills, Inc., Three D Departments, Inc., Tiger Telematics, Inc., and TIS Mortgage Investment Co.; Order of Suspension of Trading

March 18, 2010.

It appears to the Securities and Exchange Commission that there is a lack of current and accurate information concerning the securities of Talisman Enterprises, Inc. because it has not filed any periodic reports since the period ended September 30, 2000.

It appears to the Securities and Exchange Commission that there is a lack of current and accurate information concerning the securities of Tangent Solutions, Inc. because it has not filed any periodic reports since the period ended March 31, 2003.

It appears to the Securities and Exchange Commission that there is a lack of current and accurate information concerning the securities of Telepanel Systems, Inc. because it has not filed any periodic reports since the period ended January 31, 2002.

It appears to the Securities and Exchange Commission that there is a lack of current and accurate information concerning the securities of Telesis North Communications, Inc. because it has not filed any periodic reports since the period ended February 28, 2002.

It appears to the Securities and Exchange Commission that there is a lack of current and accurate information concerning the securities of Telzuit Medical Technologies, Inc. because it has not filed any periodic reports since the period ended September 30, 2007.

It appears to the Securities and Exchange Commission that there is a lack of current and accurate information concerning the securities of Tengtu International Corp. because it has not filed any periodic reports since the period ended March 31, 2005.

It appears to the Securities and Exchange Commission that there is a lack of current and accurate information concerning the securities of Thomaston Mills, Inc. because it has not filed any periodic reports since the period ended December 30, 2000.

It appears to the Securities and Exchange Commission that there is a lack of current and accurate information concerning the securities of Three D Departments, Inc. because it has not filed any periodic reports since the period ended August 1, 1998.

It appears to the Securities and Exchange Commission that there is a lack of current and accurate information concerning the securities of Tiger Telematics, Inc. because it has not filed any periodic reports since the period ended September 30, 2005.

It appears to the Securities and Exchange Commission that there is a lack of current and accurate information concerning the securities of TIS Mortgage Investment Co. because it has not filed any periodic reports since the period ended September 30, 2004.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on March 18, 2010, through 11:59 p.m. EDT on March 31, 2010.

By the Commission.
Jill M. Peterson,
Assistant Secretary.

[FR Doc. 2010-6315 Filed 3-18-10; 11:15 am]

BILLING CODE 8011-01-P